DEPARTMENT OF COMMERCE

National Oceanic and Atmospheric Administration

RIN 0648-XC182

Pacific Fishery Management Council; Public Meeting

AGENCY: National Marine Fisheries Service (NMFS), National Oceanic and Atmospheric Administration (NOAA), Commerce.

ACTION: Notice of a public meeting.

SUMMARY: Members of the Pacific Fishery Management Council's (Pacific Council) Scientific and Statistical Committee Subcommittee on Coastal Pelagic Species (SSC Subcommittee) will hold a meeting that is open to the public.

DATES: The meeting will be held Tuesday, October 2, 2012 through Wednesday, October 3, 2012. Business will begin each day at 8:30 a.m. and conclude at 5 p.m. or until business for the day is completed.

ADDRESSES: The meeting will be held in the Large Conference Room of the Southwest Fisheries Science Center's Torrey Pines Court Facility, 3333 North Torrey Pines Court, La Jolla, CA 92037.

FOR FURTHER INFORMATION CONTACT: Kerry Griffin, Staff Officer; telephone: (503) 820-2280.

SUPPLEMENTARY INFORMATION: The primary purpose of the meeting is to review the updated Pacific sardine stock assessment for 2012. The results of the assessment update will be used to establish management measures and harvest specifications for the 2013 Pacific sardine fishery. The SSC Subcommittee will develop a report for consideration by the full SSC, at the November 2012 Pacific Council meeting.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Mr. Kris Kleinschmidt at (503) 820-2280 at least 5 days prior to the meeting date.

Dated: September 4, 2012.
Tracey L. Thompson,
Acting Director, Office of Sustainable Fisheries, National Marine Fisheries Service.

[FR Doc. 2012-22029 Filed 9-6-12; 8:45 am]

BILLING CODE 3510-22-P